DEPARTMENT OF ENERGY

Federal Energy Regulatory Commission

Notice of Staff Attendance at the Southwest Power Pool Regional Entity Trustee, Regional State Committee, Members' Committee and Board of Directors' Meetings

The Federal Energy Regulatory Commission (Commission) hereby gives notice that members of its staff may attend the meetings of the Southwest Power Pool, Inc. Regional State Committee (RSC), Regional Entity Trustee (RET), Members' Committee and Board of Directors as noted below. Their attendance is part of the Commission's ongoing outreach efforts.

The meetings will be held at the Skirvin Hotel, 1 Park Avenue, Oklahoma City, OK 73102. The phone number is (405) 272-3040. All meetings are Central Time.

SPP RET

January 29, 2018 (8:00 a.m.-5:00 p.m.)

SPP RSC

January 29, 2018 (1:00 p.m.-5:00 p.m.)

SPP Members/Board of Directors

January 30, 2018 (8:00 a.m.-3:00 p.m.)

The discussions may address matters at issue in the following proceedings:

Docket No. ER12-1179, Southwest Power Pool, Inc.

Docket No. ER15-1809, ATX Southwest, LLC

Docket No. ER15-2028, Southwest Power Pool, Inc.

Docket No. ER15-2115, Southwest Power Pool, Inc.

Docket No. ER15-2236, Midwest Power Transmission Arkansas, LLC

Docket No. ER15-2237, Kanstar Transmission, LLC

Docket No. ER15-2324, Southwest Power Pool, Inc.

Docket No. ER15-2594, South Central MCN LLC

Docket No. EL16-91, Southwest Power Pool, Inc.

Docket No. EL18-19, Southwest Power Pool, Inc.

Docket No. EL16-108, Tilton Energy v. Midcontinent Independent System Operator, Inc.

Docket No. EL16-110, Southwest Power Pool, Inc.

Docket No. ER16-204, Southwest Power Pool, Inc.

Docket No. ER16-2522, Southwest Power Pool, Inc.

Docket No. ER16-2523, Southwest Power Pool, Inc.

Docket No. EL17-11, Alabama Power Co. v. Southwest Power Pool, Inc.

Docket No. EL17-21, Kansas Electric Co. v. Southwest Power Pool, Inc.

Docket No. EL17-86, Nebraska Public Power District v. Southwest Power Pool, Inc.

Docket No. EL17-69, Buffalo Dunes et al. v. Southwest Power Pool, Inc.

Docket No. ER17-426, Southwest Power Pool, Inc.

Docket No. ER17-428, Southwest Power Pool, Inc.

Docket No. ER17-469, Southwest Power Pool, Inc.

Docket No. ER17-772, Southwest Power Pool, Inc.

Docket No. ER17-889, Southwest Power Pool, Inc.

Docket No. ER17-953, South Central MCN LLC

Docket No. ER17-1092, Southwest Power Pool, Inc.

Docket No. ER17-1046, South Central MCN LLC

Docket No. ER17-1482, Southwest Power Pool, Inc.

Docket No. ER17-1568, Southwest Power Pool, Inc.

Docket No. ER17-1575, Southwest Power Pool, Inc.

Docket No. ER17-2027, Southwest Power Pool, Inc.

Docket No. ER17-2229, Southwest Power Pool, Inc.

Docket No. ER17-2256, Southwest Power Pool, Inc.

Docket No. ER17-2257, Southwest Power Pool, Inc.

Docket No. ER17-2312, Southwest Power Pool, Inc.

Docket No. ER17-2388, Southwest Power Pool, Inc.

Docket No. ER17-2441, Southwest Power Pool, Inc.

Docket No. ER17-2442, Southwest Power Pool, Inc.

Docket No. ER17-2523, Southwest Power Pool, Inc.

Docket No. ER17-2537, Southwest Power Pool, Inc.

Docket No. ER17-2563, Southwest Power Pool, Inc.

Docket No. ER17-2583, Southwest Power Pool, Inc.

Docket No. ER18-171, Southwest Power Pool, Inc.

Docket No. ER18-194, Southwest Power Pool, Inc.

Docket No. ER18-195, Southwest Power Pool, Inc.

Docket No. ER18-208, Southwest Power Pool, Inc.

Docket No. ER18-332, Southwest Power Pool, Inc.

Docket No. ER18-352, Southwest Power Pool, Inc.

Docket No. ER18-364, Southwest Power Pool, Inc.

Docket No. ER18-374, Southwest Power Pool, Inc.

Docket No. ER18-381, Southwest Power Pool, Inc.

Docket No. ER18-401, Southwestern Public Service Company

Docket No. ER18-421, Southwest Power Pool, Inc.

Docket No. ER18-478, Southwest Power Pool, Inc.

Docket No. ER18-495, Southwestern Public Service Co.

Docket No. ER18-499, Southwestern Electric Power Company

Docket No. ER18-500, Southwestern Electric Power Company

Docket No. ER18-590, Southwest Power Pool, Inc.

Docket No. ER18-421, Southwest Power Pool, Inc.

Docket No. ER18-594, Southwest Power Pool, Inc.

Docket No. ER18-592, Southwest Power Pool, Inc.

Docket No. ER18-599, Southwest Power Pool, Inc.

Docket No. EL18-9-000, Xcel Energy Services, Inc. v. Southwest Power Pool, Inc.

Docket No. EL18-20-000, Indicated SPP Transmission Owners v. Southwest Power Pool, Inc.

Docket No. EL18-26, EDF Renewable Energy, Inc. v. Midcontinent Independent System Operator, Inc., Southwest Power Pool, Inc., and PJM Interconnection, L.L.C.

Docket No. EL18-35, Southwest Power Pool, Inc.

These meetings are open to the public.

For more information, contact Patrick Clarey, Office of Energy Market Regulation, Federal Energy Regulatory Commission at (317) 249-5937 or patrick.clarey@ferc.gov.

Dated: January 12, 2018.
Kimberly D. Bose,
Secretary.

[FR Doc. 2018-01012 Filed 1-19-18; 8:45 am]

BILLING CODE 6717-01-P